DEPARTMENT OF COMMERCE

International Trade Administration

[C-570-098, C-533-886]

Polyester Textured Yarn From the People's Republic of China and India: Final Results of the Expedited First Sunset Reviews of the Countervailing Duty Orders

AGENCY: Enforcement and Compliance, International Trade Administration, Department of Commerce.

SUMMARY: The U.S. Department of Commerce (Commerce) finds that revocation of the countervailing duty (CVD) orders on polyester textured yarn from the People's Republic of China (China) and India would be likely to lead to continuation or recurrence of countervailable subsidies at the levels indicated in the “Final Results of the Sunset Reviews” section of this notice.

DATES: Applicable April 7, 2025.

FOR FURTHER INFORMATION CONTACT: Dawn Shackleford, Trade Agreements Policy and Negotiations, Enforcement and Compliance, International Trade Administration, U.S. Department of Commerce, 1401 Constitution Avenue NW, Washington, DC 20230; telephone: (202) 482-5758.

SUPPLEMENTARY INFORMATION:

Background

On January 10, 2020, Commerce published the Orders on polyester textured yarn from China and India.¹ On December 2, 2024 Commerce published the notice of initiation of the first sunset reviews of the Orders, pursuant to section 751(c) of the Tariff Act of 1930, as amended (the Act).² On December 16, 2024, Commerce received a notice of intent to participate from the domestic interested parties, within the deadline specified in 19 CFR 351.218(d)(1)(i).³ The domestic interested parties claimed interested party status under section 771(9)(C) of the Act and 19 CFR 351.102(b)(29)(v) as a manufacturer, producer, or wholesaler of the domestic like product in the United States.⁴ On December 27, 2024, Commerce received an adequate substantive response from the domestic interested parties within the 30-day deadline specified in 19 CFR 351.218(d)(3)(i).⁵ Commerce received no substantive response form the Governments of China or India or any respondent interested party.

¹ See Polyester Textured Yarn from the People's Republic of China and India: Countervailing Duty Orders, 85 FR 1301 (January 10, 2020) (China Order and India Order) (collectively, Orders).

² See Initiation of Five-Year (Sunset) Reviews, 89 FR 95181 (December 2, 2024).

³ See Domestic Interest Parties' Letters, “Five-Year (Sunset) Review of the Countervailing Duty Order on Polyester Textured Yarn from the People's Republic of China (“China”)—Petitioners' Notice of Intent to Participate,” dated December 16, 2024; and “Five-Year (Sunset) Review of the Countervailing Duty Order on Polyester Textured Yarn from India—Petitioner's Notice of Intent to Participate,” dated December 16, 2024.

⁴ Id. at 2.

⁵ See Domestic Interested Parties' Letter, “First Five-Year (“Sunset”) Review of the Countervailing Duty Order on Polyester Textured Yarn form the People's Republic of China—Petitioners' Substantive Response to Notice of Initiation,” dated December 27, 2024; “First Five-Year (“Sunset”) Review of the Countervailing Duty Order on Polyester Textured Yarn from India—Petitioners' Substantive Response to Notice of Initiation,” dated December 27, 2024.

On January 31, 2025, Commerce notified the U.S. International Trade Commission (ITC) that it did not receive an adequate substantive response from respondent interested parties.⁶ As a result, Commerce conducted expedited (120-day) sunset reviews of the Orders, pursuant to section 751(c)(3)(B) of the Act and 19 CFR 351.218(e)(1)(ii)(B)(2) and (C)(2).

⁶ See Commerce's Letter, “Sunset Reviews Initiated December 2, 2024,” dated January 31, 2025.

Scope of the Orders

The merchandise covered by the Orders is polyester textured yarn from China and India. For a complete description of the scope of the Orders, see the Issues and Decision Memorandum.⁷

⁷ See Memorandum, “Issues and Decision Memorandum for the Final Results of the Expedited First Sunset Reviews of the Countervailing Duty Orders on Polyester Textured Yarn from the People's Republic of China and India,” dated concurrently with, and hereby adopted by, this notice (Issues and Decision Memorandum).

Analysis of Comments Received

A complete discussion of all issues raised in these sunset reviews, including the likelihood of continuation or recurrence of subsidization and the countervailable subsidy rates likely to prevail if the Orders were to be revoked, is contained in the accompanying Issues and Decision Memorandum.⁸ A list of the topics discussed in the Issues and Decision Memorandum is attached as an appendix to this notice. The Issues and Decision Memorandum is a public document and is on file electronically via Enforcement and Compliance's Antidumping and Countervailing Duty Centralized Electronic Service System (ACCESS), which is available to registered users at https://access.trade.gov. In addition, complete versions of the Issues and Decision Memorandum can be accessed directly at https://access.trade.gov/public/FRNoticesListLayout.aspx.

⁸ Id.

Final Results of Sunset Reviews

Pursuant to sections 751(c) and 752(b) of the Act, Commerce determines that revocation of the China Order would be likely to lead to continuation or recurrence of countervailable subsidies at the following net countervailable subsidy rates:

Producers/exporters | Net countervailable subsidy rate (percent ad valorem)
Fujian Billion Polymerization Fiber Technology Industrial Co., Ltd | 32.18
Suzhou Shenghong Fiber Co., Ltd | 473.09
Suzhou Shengong Garmant Development Co | 472.51
All Others | 32.18

Pursuant to sections 751(c) and 752(b) of the Act, Commerce determines that revocation of the India Order would be likely to lead to continuation or recurrence of countervailable subsidies at the following net countervailable subsidy rates:

Producers/exporters | Net countervailable subsidy rate (percent ad valorem)
JBF Industries Limited | 21.83
Reliance Industries Limited | 4.29
All Others | 4.65

Administrative Protective Order (APO)

This notice serves as the only reminder to interested parties subject to an administrative protective order (APO) of their responsibility concerning the disposition of proprietary information disclosed under APO in accordance with 19 CFR 351.305(a), which continues to govern business proprietary information in this segment of the proceeding. Timely written notification of the return or destruction of APO materials or conversion to judicial protective order is hereby requested. Failure to comply with the regulations and the terms of an APO is a sanctionable violation.

Notification to Interested Parties

Commerce is issuing and publishing these final results and this notice in accordance with sections 751(c), 752(b), and 777(i)(1) of the Act and 19 CFR 351.211(c)(5)(ii).

Dated: April 1, 2025.
Christopher Abbott,
Deputy Assistant Secretary, for Policy and Negotiations, performing the non-exclusive functions and duties of the Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2025-05925 Filed 4-4-25; 8:45 am]

BILLING CODE 3510-DS-P